DEPARTMENT OF DEFENSE

Department of the Navy

Notice of Intent to Grant Exclusive Patent License; Ecolab, Inc.

AGENCY: Department of the Navy, DOD.

ACTION: Notice.

SUMMARY: The Department of the Navy hereby gives notice of its intent to grant to Ecolab, Inc., a revocable, nonassignable, exclusive license to practice in the U.S. and certain foreign countries, the Government-owned inventions described in Navy Case No. 83,326 filed September 9, 2002, entitled “Ion Selective Electrodes for Direct Organic Drug Analysis in Saliva, Sweat, and Surface Wipes”, and Navy Case No. 84,717 filed December 3, 2003, entitled “Multiparameter System for Environmental Monitoring”, in the field of testing and monitoring of water, wastewater and cleaning and sanitizing solutions in industrial and institutional facilities and all industrial and institutional markets worldwide, which includes, but is not limited to, restaurants, quick service restaurants, hotels, motels, cruise ships, schools, caterers, in-plant feeding facilities, governmental and military facilities, groceries, convenience stores, delicatessens, veterinary facilities, nursing homes, mortuaries, commercial real estate, hospitals, and other healthcare facilities, vehicle wash facilities, laundries, food and beverage processing plants, rendering plants, pharmaceutical plants, farms, breweries and manufacturing or assembly facilities, mass merchandisers, and warehouse stores.

DATES: Anyone wishing to object to the grant of this license must file written objections along with supporting evidence, if any, not later than March 4, 2004.

ADDRESSES: Written objections are to be filed with the Naval Research Laboratory, Code 1004, 4555 Overlook Avenue, SW., Washington, DC 20375-5320.

FOR FURTHER INFORMATION CONTACT: Jane F. Kuhl, Technology Transfer Office, NRL Code 1004, 4555 Overlook Avenue, SW., Washington, DC 20375-5320, telephone (202) 767-7230. Due to U.S. Postal delays, please fax (202) 404-7920, e-mail: kuhl@nrl.navy.mil or use courier delivery to expedite response.

Authority: 35 U.S.C. 207, 37 CFR part 404.)

Dated: February 10, 2004.
J.T. Baltimore,
Lieutenant Commander, Judge Advocate General's Corps, U.S. Navy, Alternate Federal Register Liaison Officer.

[FR Doc. 04-3423 Filed 2-17-04; 8:45 am]

BILLING CODE 3810-FF-P